DEPARTMENT OF LABOR

Employment and Training Administration

[TA-W-42,230]

Flowserve US, Inc., Williamsport, PA; Notice of Termination of Investigation

Pursuant to section 221 of the Trade Act of 1974, an investigation was initiated on October 15, 2002, in response to a petition filed jointly by the International Union of Engineers, Local 628, and the company on behalf of workers at Flowserve US, Inc., Williamsport, Pennsylvania.

The petitioner has requested that the petition be withdrawn. Consequently, further investigation in this case would serve no purpose, and the investigation has been terminated.

Signed in Washington, DC this 16th day of October, 2002.
Richard Church,
Certifying Officer, Division of Trade Adjustment Assistance.

[FR Doc. 02-28037 Filed 11-4-02; 8:45 am]

BILLING CODE 4510-30-P